DEPARTMENT OF LABOR

Employment and Training Administration

[TA-W-59,384]

Wistron Infocomm, Grapevine, TX; Notice of Termination of Investigation

Pursuant to section 221 of the Trade Act of 1974, as amended, an investigation was initiated on May 12, 2006 in response to a worker petition filed on behalf of workers at Wistron Infocomm, Grapevine, Texas.

The petitioners did not work in the United States. Although the petitioners wages were paid out of Grapevine, Texas, they physically worked at another company owned facility located in Juarez, Mexico. Consequently, further investigation would serve no purpose and the investigation is terminated.

Signed at Washington, DC, this 23rd day of May 2006.
Linda G. Poole,
Certifying Officer, Division of Trade Adjustment Assistance.

[FR Doc. E6-8948 Filed 6-7-06; 8:45 am]

BILLING CODE 4510-30-P